DEPARTMENT OF TRANSPORTATION

National Highway Traffic Safety Administration

[Docket No. NHTSA-2007-27588]

RIN 2127-AF54

Federal Motor Vehicle Safety Standards; Side Impact Protection; Review: FMVSS 214 TTI(d) Improvements and Side Air Bags; Evaluation Report

AGENCY: National Highway Traffic Safety Administration (NHTSA), Department of Transportation.

ACTION: Request for comments on technical report.

SUMMARY: This notice announces NHTSA's publication of a Technical Report reviewing and evaluating its existing Safety Standard 214, Side Impact Protection. The report's title is: An Evaluation of Side Impact Protection—FMVSS 214 TTI(d) Improvements and Side Air Bags.

DATES: Comments must be received no later than July 17, 2007.

ADDRESSES: Report: The report is available for viewing on line in PDF format at the Docket Management System (DMS) Web page of the Department of Transportation, http://dms.dot.gov. Click on “Simple Search”; type in the five-digit Docket number shown at the beginning of this Notice (27588) and click on “Search”; that brings up a list of every item in the docket, starting with a copy of this Federal Register notice (item NHTSA-2007-27588-1) and a copy of the report in PDF format (item NHTSA-2007-27588-2).

Comments: You may submit comments [identified by DOT DMS Docket Number NHTSA-2007-27588] by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

You may call Docket Management at 202-366-9324 and visit the Docket from 10 a.m. to 5 p.m., Monday through Friday.

FOR FURTHER INFORMATION CONTACT: Charles Kahane, Chief, Evaluation Division, NPO-131, National Center for Statistics and Analysis, National Highway Traffic Safety Administration, Room 5208, 400 Seventh Street, SW., Washington, DC 20590. Telephone: 202-366-2560. Fax: 202-366-2559. E-mail: chuck.kahane@dot.gov.

SUPPLEMENTARY INFORMATION: Safety Standard 214 (49 CFR 571.214) was amended to assure occupant protection in a 33.5 mph crash test and phased-in to new passenger cars during model years 1994-1997 (55 FR 45752). A Thoracic Trauma Index, TTI(d) is measured on Side Impact Dummies seated adjacent to the impact point. Manufacturers upgraded side structures and affixed padding in cars to improve TTI(d). Later, they installed two types of side air bags—torso bags and head air bags—for additional occupant protection in cars and LTVs. Statistical analyses of 1993-2005 crash data from the Fatality Analysis Reporting System (FARS) and the General Estimates System (GES) estimate fatality reductions for these technologies.

• Average TTI(d) improved in 2-door cars from 114 in 1981-1985 to 44 in 214-certified cars with side air bags, and in 4-door cars from 85 to 48.

• TTI(d) improvements without side air bags reduced fatality risk for nearside occupants in multivehicle crashes by an estimated 33 percent in 2-door cars and 17 percent in 4-door cars.

• Torso plus head air bags reduce fatality risk for nearside occupants by an estimated 24 percent; torso bags alone, by 12 percent.

How can I influence NHTSA's thinking on this subject?

NHTSA welcomes public review of the technical report and invites reviewers to submit comments about the data and the statistical methods used in the analyses. NHTSA will submit to the Docket a response to the comments and, if appropriate, additional analyses that supplement or revise the technical report.

How do I prepare and submit comments?

Your comments must be written and in English. To ensure that your comments are correctly filed in the Docket, please include the Docket number of this document (NHTSA-2007-27588) in your comments.

Your primary comments must not be more than 15 pages long (49 CFR 553.21). However, you may attach additional documents to your primary comments. There is no limit on the length of the attachments.

Please send two paper copies of your comments to Docket Management, submit them electronically, or fax them. The mailing address is U.S. Department of Transportation Docket Management, Room PL-401, 400 Seventh Street, SW., Washington, DC 20590. If you submit your comments electronically, log onto the Dockets Management System Web site at http://dms.dot.gov and click on “Help” to obtain instructions. The fax number is 1-202-493-2251.

We also request, but do not require you to send a copy to Charles Kahane, Evaluation Division, NPO-131, National Highway Traffic Safety Administration, Room 5208, 400 Seventh Street, SW., Washington, DC 20590 (alternatively, fax to 202-366-2559 or e-mail to chuck.kahane@dot.gov). He can check if your comments have been received at the Docket and he can expedite their review by NHTSA.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR part 512).

In addition, send two copies from which you have deleted the claimed confidential business information to Docket Management, Room PL-401, 400 Seventh Street, SW., Washington, DC 20590, or submit them electronically.

Will the agency consider late comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How can I read the comments submitted by other people?

You may read the comments by visiting Docket Management in person at Room PL-401, 400 Seventh Street, SW., Washington, DC from 10 a.m. to 5 p.m., Monday through Friday.

You may also see the comments on the Internet by taking the following steps:

A. Go to the Docket Management System (DMS) Web page of the Department of Transportation (http://dms.dot.gov).

B. On that page, click on “Simple Search.”

C. On the next page ((http://dms.dot.gov/search/searchFormSimple.cfm/) type in the five-digit Docket number shown at the beginning of this Notice (27588). Click on “Search.”

D. On the next page, which contains Docket summary information for the Docket you selected, click on the desired comments. You may also download the comments.

Authority: 49 U.S.C. 30111, 30168; delegation of authority at 49 CFR 1.50 and 501.8.

Joseph S. Carra,
Associate Administrator for the National Center for Statistics and Analysis.

[FR Doc. E7-4890 Filed 3-16-07; 8:45 am]

BILLING CODE 4910-59-P